DEPARTMENT OF COMMERCE

International Trade Administration

[A-489-602]

Aspirin from Turkey: Revocation of Order

AGENCY: Import Administration, International Trade Administration, Department of Commerce.

ACTION: Notice of Revocation of the Antidumping Duty Order on Aspirin from Turkey.

SUMMARY: On July 1, 2004, the Department of Commerce (“the Department”) initiated the second sunset review of the antidumping duty order on aspirin from Turkey (69 FR 39905). Because the domestic interested parties did not participate in this sunset review, the Department is revoking this antidumping duty order.

EFFECTIVE DATE: August 20, 2004

FOR FURTHER INFORMATION CONTACT: Hilary Sadler, Esq., Office of Policy, Import Administration, International Trade Administration, U.S. Department of Commerce, 14th Street and Constitution Avenue, NW, Washington, D.C. 20230; telephone: (202) 482-4340.

SUPPLEMENTARY INFORMATION:

The Applicable Statute

The Department's procedures for the conduct of sunset reviews are set forth in Section 751(c) of the Tariff Act of 1930, as amended (the “Act”), and 19 CFR 351.218. Guidance on methodological and analytical issues relevant to the Department's conduct of sunset reviews is set forth in the Department's Policy Bulletin 98:3 Policies regarding the Conduct of Five-Year Sunset Reviews of Antidumping and Countervailing Duty Orders: Policy Bulletin, 63 FR 18871 (April 16, 1998) (“Sunset Policy Bulletin”).

For purposes of this sunset review, the product covered by this order is acetylsalicylic acid (aspirin) containing no additives, other than inactive substances (such as starch, lactose, cellulose, or coloring material), and/or active substances in concentrations less than that specified for particular nonprescription drug combinations of aspirin and active substances as published in the Handbook of Nonprescription Drugs, eighth edition, American Pharmaceutical Association, and is not in tablet, capsule or similar forms for direct human consumption. This product is currently classified under the Harmonized Tariff Schedule of the United States (“HTS”) subheading 2918.22.10. The HTS number is provided for convenience and customs purposes. The written description remains dispositive.

Background

On August 25, 1987, the Department issued an antidumping duty order on aspirin from Turkey (52 FR 32030). On August 20, 1999, the Department published its notice of continuation of the antidumping duty order, following a sunset review. See Continuation of Antidumping Duty Order: Aspirin from Turkey, 64 FR 45508 (August 20, 1999). Pursuant to section 751(c) of the Act and 19 CFR part 351, the Department initiated the second sunset review of this order by publishing the notice of the initiation in the Federal Register (See Initiation Notice, 69 FR 39905 (July 1, 2004)). In addition, as a courtesy to interested parties, the Department sent letters, via certified and registered mail, to each party listed on the Department's most current service list for this proceeding to inform them of the automatic initiation of a sunset review of this order.

We received no response from the domestic industry by the deadline dates (see 19 CFR 351.218(d)(1)(i)). As a result, the Department determined that no domestic party intends to participate in the sunset review, and on July 20, 2004, we notified the International Trade Commission, in writing, that we intended to issue a final determination revoking this antidumping duty order. See 19 CFR 351.218(d)(1)(iii)(B).

Determination to Revoke

Pursuant to section 751(c)(3)(A) of the Act and 19 CFR 351.218(d)(1)(iii)(B)(3), if no domestic interested party responds to the notice of initiation, the Department shall issue a final determination, within 90 days after the initiation of the review, revoking the order. Because no domestic interested party filed a notice of intent or substantive response, the Department finds that no domestic interested party is participating in this review, and we are revoking this antidumping duty order effective August 20, 2004, the fifth anniversary of the date of the determination to continue the order, consistent with 19 CFR 351.222(i)(2)(i) and section 751(c)(6)(A)(iii) of the Act.

Effective Date of Revocation

Pursuant to sections 751(c)(3)(A) and 751(c)(6)(A)(iii) of the Act, and 19 CFR 351.222(i)(2)(i), the Department will instruct the U.S. Customs and Border Protection to terminate the suspension of liquidation of the merchandise subject to this order entered, or withdrawn from warehouse, on or after August 20, 2004. Entries of subject merchandise prior to the effective date of revocation will continue to be subject to suspension of liquidation and antidumping duty deposit requirements. The Department will complete any pending administrative reviews of this order and will conduct administrative reviews of subject merchandise entered prior to the effective date of revocation in response to appropriately filed requests for review.

This five-year (“sunset”) review and notice are in accordance with sections 751(c) and 777(i)(1) of the Act.

Dated: September 24, 2004.
James J. Jochum,
Assistant Secretary for Import Administration.

[FR Doc. E4-2459 Filed 9-30-04; 8:45 am]

BILLING CODE 3510-DS-S